OFFICE OF THE UNITED STATES TRADE REPRESENTATIVE

Request for Public Comments on the Caribbean Basin Economic Recovery Act and the Caribbean Basin Trade Partnership Act: Report to Congress

AGENCY: Office of the United States Trade Representative (USTR).

ACTION: Notice and request for public comment.

SUMMARY: The Trade Policy Staff Committee (TPSC) is seeking the views of interested parties on the operation of the Caribbean Basin Economic Recovery Act (CBERA), as amended by the Caribbean Basin Trade Partnership Act (CBTPA) (19 U.S.C. 2701 et seq.). Section 212(f) of the CBERA, as amended, requires the President to submit a report to Congress regarding the operation of the CBERA and CBTPA (together commonly referred to as the Caribbean Basin Initiative, or CBI) on or before December 31, 2001, and every two years thereafter. The TPSC invites written comments concerning the operation of the CBI, including comments on the performance of each CBERA and CBTPA beneficiary country under the criteria described in sections 212(b), 212(c), and 213(b)(5)(B) of CBERA, as amended. This information will be used in the preparation of the report to Congress on the operation of the program.

DATES: Public comments are due at USTR no later than 5 p.m., November 1, 2013.

ADDRESSES: USTR strongly prefers electronic submissions made at http://www.regulations.gov, docket number USTR-2013-0036 (see “Requirements for Submission” below). If you are unable to make a submission at www.regulations.gov, please contact Don Eiss, Trade Policy Staff Committee, at (202) 395-3475 to make other arrangements.

FOR FURTHER INFORMATION CONTACT: For procedural questions concerning written comments, contact Don Eiss, Office of the United States Trade Representative, at (202) 395-3475. All other questions should be directed to Fran Huegel, Office of the Western Hemisphere, Office of the United States Trade Representative, 600 17th Street NW., Room 523, Washington, DC 20508. The telephone number is (202) 395-9588.

SUPPLEMENTARY INFORMATION: Interested parties are invited to submit comments on any aspect of the program's operation, including the performance of CBERA and CBTPA beneficiary countries, as the case may be, under the criteria described in sections 212(b), 212(c), and 213(b)(5)(B) of the CBERA, as amended. Those criteria may be accessed at http://www.gpo.gov/fdsys/pkg/USCODE-2011-title19/html/USCODE-2011-title19-chap15.htm and are summarized below. Other issues to be examined in this report include: The CBI's effect on the volume and composition of trade and investment between the United States and the Caribbean Basin beneficiary countries; and its effect on advancing U.S. trade policy goals as set forth in the CBTPA. The following countries are both CBERA and CBTPA beneficiary countries: Barbados, Belize, Guyana, Haiti, Jamaica, Saint Lucia, and Trinidad and Tobago. Antigua and Barbuda, Aruba, The Bahamas, British Virgin Islands, Dominica, Grenada, Montserrat, Saint Kitts and Nevis, Saint Vincent and the Grenadines currently receive benefits only under CBERA. Panama ceased to be designated as a beneficiary country when the Panama-United States Trade Promotion Agreement entered into force on October 31, 2012.

Eligibility Criteria for CBI Beneficiary Countries

In determining whether to designate a country as a CBTPA beneficiary country, the President must take into account the criteria contained in sections 212(b) and (c) of CBERA, and other appropriate criteria, including, inter alia, the following:

(1) Whether the beneficiary country has demonstrated a commitment to undertake its obligations under the World Trade Organization (WTO) on or ahead of schedule and participate in negotiations toward the completion of the Free Trade Area of the Americas (FTAA) or another free trade agreement.

(2) The extent to which the country provides protection of intellectual property rights consistent with or greater than the protection afforded under the Agreement on Trade-Related Aspects of Intellectual Property Rights.

(3) The extent to which the country provides internationally recognized worker rights including—

(I) The right of association;

(II) The right to organize and bargain collectively;

(III) A prohibition on the use of any form of forced or compulsory labor;

(IV) A minimum age for the employment of children; and

(V) Acceptable conditions of work with respect to minimum wages, hours of work, and occupational safety and health.

(4) Whether the country has implemented its commitments to eliminate the worst forms of child labor, as defined in Section 507(6) of the Trade Act of 1974, as amended.

(5) The extent to which the country has met U.S. counter-narcotics certification criteria under the Foreign Assistance Act of 1961.

(6) The extent to which the country has taken steps to become a party to and implement the Inter-American Convention Against Corruption.

(7) The extent to which the country applies transparent, nondiscriminatory and competitive procedures in government procurement, and contributes to efforts in international fora to develop and implement rules on transparency in government procurement.

Additionally, before a country can receive benefits under the CBTPA, the President must also determine that the country has satisfied the requirements of section 213(b)(4)(A)(ii) of CBERA (19 U.S.C. 2703(b)(4)(A)(ii)) relating to the implementation of procedures and requirements similar in all material aspects to the relevant procedures and requirements contained in chapter 5 of the North American Free Trade Agreement.

Requirements for Submissions. All comments must be submitted in English and must identify (on the first page of the submission) the subject matter of the comment as the “CBI Report to Congress.” In order to be assured of consideration, comments should be submitted by November 1, 2013.

In order to ensure the timely receipt and consideration of comments, USTR strongly encourages commenters to make on-line submissions via http://www.regulations.gov. To submit comments via http://www.regulations.gov, enter docket: USTR-2013-0036. To find the docket, enter the docket number on the home page http://www.regulations.gov home page and click “go.” The site will provide a search-results page listing all documents associated with this docket. Find a reference to this notice on the search-results page, and click on the link entitled “Comment Now!.” (For further information on using the www.regulations.gov Web site, please consult the resources provided on the Web site by clicking on the “How to Use This Site”.)

“The http://www.regulations.gov Web site offers the option of providing comments by filling in a “Type Comment” field or by attaching a document using the “Upload file(s)” field. We expect that most submissions will be provided in an attached document. If a document is attached, it is sufficient to type “See attached” in the “Type Comment” field.

Submissions in Microsoft Word (.doc) or Adobe Acrobat (.pdf) are preferred. If an application other than those two is used, please identify in your submission the specific application used. For any comments submitted electronically containing business confidential information, the file name of the business confidential version should begin with the characters “BC” and must be submitted separately from the public version. Any page containing business confidential information must be clearly marked “BUSINESS CONFIDENTIAL” on the top of that page. If you file comments containing business confidential information you must also submit a public version of the comments under a separate submission. The file name of the public version should begin with the character “P”. The “BC” and “P” should be followed by the name of the person or entity submitting the comments. If you submit comments that contain no business confidential information, the file name should begin with the name of the person or entity submitting the comments. Electronic submissions should not attach separate cover letters; rather, information that might appear in a cover letter should be included in the comments you submit. Similarly, to the extent possible, please include any exhibits, annexes, or other attachments to a submission in the same file as the submission itself and not as separate files.

We strongly urge submitters to use electronic filing. If an on-line submission is impossible, alternative arrangements must be made with Mr. Eiss prior to delivery for the receipt of such submissions. Mr. Eiss may be contacted at (202) 395-3475. General information concerning the Office of the United States Trade Representative may be obtained by accessing its Internet Web site (http://www.ustr.gov).

John Melle,
Assistant United States Trade Representative for the Western Hemisphere.

[FR Doc. 2013-24166 Filed 10-2-13; 8:45 am]

BILLING CODE 3290-F3-P